DEPARTMENT OF TRANSPORTATION

National Highway Traffic Safety Administration

[Docket No. NHTSA 2002006-25975; Notice 2]

American Honda Motor Co., Inc., Grant of Petition for Decision of Inconsequential Noncompliance

American Honda Motor Co., Inc. (Honda) has determined that the certification labels for certain Pilot trucks that it produced in 2006 do not comply with S5.3 of 49 CFR 571.120, Federal Motor Vehicle Safety Standard (FMVSS) No. 120, “Tire selection and rims for motor vehicles other than passenger cars.” Pursuant to 49 U.S.C. 30118(d) and 30120(h), Honda has petitioned for a determination that this noncompliance is inconsequential to motor vehicle safety and has filed an appropriate report pursuant to 49 CFR Part 573, “Defect and Noncompliance Reports.” Notice of receipt of a petition was published, with a 30-day comment period, on October 4, 2006, in the Federal Register (71 FR 58660). NHTSA received no comments.

Affected are a total of approximately 23,000 model year 2006 and 2007 Honda Pilot trucks produced between February 17, 2006 and August 10, 2006. S5.3.2 of FMVSS No. 120 requires that the vehicles shall show the size designation appropriate for the tires. The noncompliant vehicles have certification labels stating that the rim size is 6 inches, when in fact the rim size is 16 inches. Honda has corrected the problem that caused these errors so that they will not be repeated in future production.

Honda believes that the noncompliance is inconsequential to motor vehicle safety and that no corrective action is warranted. Honda presents the following basis for its petition. Most vehicle owners, dealers, and tire service technicians would refer to the vehicles' existing tires and/or the separate Tire Placard to determine the appropriate size for a replacement tire rather than to the Certification Label. If the vehicle owner, dealer or tire service technician read the incorrect rim size on the certification label, it would be obvious that a full size vehicle could not use 6 inch wheels. The owner's manual contains the correct rim size information. The correct rim size is cast into the wheel itself.

NHTSA agrees with Honda that the noncompliance is inconsequential to motor vehicle safety. It would be obvious that a full size vehicle could not be supported by 6 inch wheels. The correct size information is available in the owner's manual, and on the wheel itself, in order to determine the correct size for replacement wheels and tires.

In consideration of the foregoing, NHTSA has decided that the petitioner has met its burden of persuasion that the noncompliance described is inconsequential to motor vehicle safety. Accordingly, Honda's petition is granted and the petitioner is exempted from the obligation of providing notification of, and a remedy for, the noncompliance.

(Authority: 49 U.S.C. 30118, 30120; delegations of authority at CFR 1.50 and 501.8).

Issued on: January 8, 2007.
Daniel C. Smith,
Associate Administrator for Enforcement.

[FR Doc. E7-316 Filed 1-11-07; 8:45 am]

BILLING CODE 4910-59-P